DEPARTMENT OF HOUSING AND URBAN DEVELOPMENT

[Docket No. FR-7016-N-06]

60-Day Notice of Proposed Information Collection: Surveys of Recipients and Providers of Technical Assistance (TA) and Training

AGENCY: Office of the Assistant Secretary for Policy Development and Research, HUD.

ACTION: Notice; correction of title.

SUMMARY: HUD is seeking approval from the Office of Management and Budget (OMB) for the information collection described below. In accordance with the Paperwork Reduction Act, HUD is requesting comment from all interested parties on the proposed collection of information. The purpose of this notice is to allow for 60 days of public comment. This notice replaces the notice HUD published on January 17, 2020 at 85 FR 3070.

DATES: Comments Due Date: March 30, 2020.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

A. Overview of Information Collection

Title of Information Collection: Surveys of Recipients and Providers of HUD Technical Assistance and Training.

OMB Approval Number: 2528-0325 (Previously 2506 -0212).

Type of Request: Revision of a currently approved collection.

Form Number: N/A.

Description of the need for the information and proposed use: The surveys in this collection of information are necessary to systematically gather user feedback and outcomes data to evaluate and improve HUD's deployment and management of its technical assistance (TA) resources. The data will be used to comprehensively evaluate the Community Compass program, identify areas for improvement in the program, evaluate the effectiveness of HUD TA interventions, identify trends in TA needs, support the measurement of past performance for future TA NOFAs, and help HUD identify risk within its TA Provider pool. Survey results will also be used by TA Providers and HUD staff to improve individual TA and training engagements.

The previously approved Information Collection (OMB Control No: 2506-0212) included the Community Development Marketplace (CDM) Project Intake Survey and the Survey of Community Partners Receiving HUD Staff-Led Technical Assistance. These surveys are no longer active and thus are not included in this information collection revision.

Members of Affected Public: Not-for-profit institutions; State, Local, and Tribal Government.

Estimated Number of Respondents: 10,780.

Estimated Time per Response: 0.2-0.25 hours.

Frequency of Response: 1.1-1.3.

Estimated Total Annual Burden Hours: 2,837.

Estimated Total Annual Cost: $96,919.99.

Legal Authority: Section 3507 of the Paperwork Reduction Act of 1995, 44 U.S.C. Chapter 35.

Information collection | Number of respondents ¹ | Frequency of response | Responses per annum | Burden hour per response | Annual burden hours | Hourly cost per response | Annual cost
Provider TA Survey | 1,140 | ² 1.1 | 1,254 | 0.25 | 313.5 | ³ $44.65 | $13,997.78
Recipient TA Survey | 1,140 | ⁴ 1.1 | 1,254 | 0.25 | 313.5 | ⁵ 32.86 | 10,301.61
In-Person Training Survey | 3,500 | ⁶ 1.3 | 4,550 | 0.2 | 910 | ⁷ 32.86 | 29,902.60
Online Training Survey | 5,000 | ⁸ 1.3 | 6,500 | 0.2 | 1,300 | ⁹ 32.86 | 42,718.00
Totals | 10,780.00 |  | 13,558.00 |  | 2,837.00 |  | 96,919.99

Compared to the previously-approved information collection, the “Burden Hours Per Response” increased slightly for the In-Person and Online Training surveys due to additional questions added to those surveys. However, the total “Annual Burden Hours” and total “Annual Cost” decreased compared to the previously-approved information collection because two surveys [Community Development Marketplace (CDM) Project Intake Survey and the Survey of Community Partners Receiving HUD Staff-Led Technical Assistance] were removed from the information collection.

¹ Number of respondents is based on the frequency of TA and training engagements and the number of participants in recent years.

² Some TA providers will provide multiple TA engagements and will be asked to complete more than one TA survey in a year.

³ 75 percentile hourly wage for “Business and Financial Operations Occupations” from the Bureau of Labor Statistics (May 2018) https://www.bls.gov/oes/current/oes130000.htm.

⁴ Some TA recipients will receive multiple TA engagements and will be asked to complete more than one TA survey in a year.

⁵ Median hourly wage for “Business and Financial Operations Occupations” (May 2018) https://www.bls.gov/oes/current/oes130000.htm.

⁶ HUD anticipates that roughly 30% of in person trainees will complete multiple trainings and be asked to complete more than one survey in a year.

⁷ Median hourly wage for “Business and Financial Operations Occupations” from the Bureau of Labor Statistics (May 2018) https://www.bls.gov/oes/current/oes130000.htm.

⁸ HUD anticipates that roughly 30% of online trainees will complete multiple trainings and be asked to complete more than one survey in a year.

⁹ Median hourly wage for “Business and Financial Operations Occupations” from the Bureau of Labor Statistics (May 2018) https://www.bls.gov/oes/current/oes130000.htm.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

C. Authority

Section 3507 of the Paperwork Reduction Act of 1995, 44 U.S.C. Chapter 35.

Dated: January 22, 2020.
Seth D. Appleton,
Assistant Secretary for Policy Development and Research.

[FR Doc. 2020-01471 Filed 1-27-20; 8:45 am]

BILLING CODE 4210-67-P